DEPARTMENT OF COMMERCE

National Oceanic and Atmospheric Administration

50 CFR Parts 622 and 640

RIN 0648-BC12

Fisheries of the Caribbean, Gulf of Mexico, and South Atlantic; Revisions to Dealer Permitting and Reporting Requirements for Species Managed by the Gulf of Mexico and South Atlantic Fishery Management Councils

AGENCY: National Marine Fisheries Service (NMFS), National Oceanic and Atmospheric Administration (NOAA), Commerce.

ACTION: Notice of availability; request for comments.

SUMMARY: The Gulf of Mexico (Gulf) and South Atlantic Fishery Management Councils (Councils) have submitted a Generic Amendment to the Fishery Management Plans (FMPs) in the Gulf and South Atlantic Regions (Generic Dealer Amendment) for review, approval, and implementation by NMFS. The Generic Dealer Amendment amends the following FMPs: Reef Fish Resources and the Red Drum Fishery of the Gulf; the Snapper-Grouper Fishery (including wreckfish), the Golden Crab Fishery, and the Shrimp Fishery (excluding penaeid shrimp) of the South Atlantic Region; the Dolphin and Wahoo Fishery of the Atlantic; and Coastal Migratory Pelagic (CMP) Resources and the Spiny Lobster Fishery of the Gulf and South Atlantic. The Generic Dealer Amendment would modify the permitting and reporting requirements for seafood dealers who first receive species managed by the Councils through the previously mentioned FMPs. These revisions would create a single dealer permit for dealers who first receive fish managed by the Councils, require both purchase and non-purchase reports to be submitted online on a weekly basis, not authorizing dealers to purchase fish from federally-permitted vessels if they are delinquent in submitting reports, and modify the sale and purchase provisions based on the new dealer permitting requirements. The intent of the amendment is to obtain timelier purchase information from dealers to help reduce annual catch limit (ACL) underages and overages, and achieve optimum yield in accordance with the requirements of the Magnuson-Stevens Fishery Conservation and Management Act (Magnuson-Stevens Act).

DATES: Written comments must be received on or before February 18, 2014.

ADDRESSES: You may submit comments on the amendment identified by “NOAA-NMFS-2012-0206” by any of the following methods:

• Electronic submissions: Submit electronic comments via the Federal e-Rulemaking Portal: http://www.regulations.gov. Follow the “Instructions” for submitting comments.

• Mail: Rich Malinowski, Southeast Regional Office, NMFS, 263 13th Avenue South, St. Petersburg, FL 33701.

Instructions: All comments received are a part of the public record and will generally be posted to http://www.regulations.gov without change. All Personal Identifying Information (for example, name, address, etc.) voluntarily submitted by the commenter may be publicly accessible. Do not submit Confidential Business Information or otherwise sensitive or protected information. NMFS will accept anonymous comments (enter N/A in the required field if you wish to remain anonymous).

To submit comments through the Federal e-Rulemaking Portal: http://www.regulations.gov, enter “NOAA-NMFS-2012-0206” in the search field and click on “search.” After you locate the notice of availability, click the “Submit a Comment” link in that row. This will display the comment web form. You can then enter your submitter information (unless you prefer to remain anonymous), and type your comment on the web form. You can also attach additional files (up to 10MB) in Microsoft Word, Excel, WordPerfect, or Adobe PDF file formats only.

Comments received through means not specified in this notice will not be considered.

For further assistance with submitting a comment, see the “Commenting” section at http://www.regulations.gov/#!faqs or the Help section at http://www.regulations.gov.

Electronic copies of the amendment may be obtained from the Southeast Regional Office Web site at http://sero.nmfs.noaa.gov.

FOR FURTHER INFORMATION CONTACT: Rich Malinowski, Southeast Regional Office, NMFS, telephone 727-824-5305; email: rich.malinowski@noaa.gov.

SUPPLEMENTARY INFORMATION: The Magnuson-Stevens Act requires each regional fishery management council to submit any fishery management plan or amendment to NMFS for review and approval, disapproval, or partial approval. The Magnuson-Stevens Act also requires that NMFS, upon receiving a plan or amendment, publish an announcement in the Federal Register notifying the public that the plan or amendment is available for review and comment.

The FMPs being revised by this amendment were prepared by the Councils and are implemented through regulations at 50 CFR part 622 and part 640 under the authority of the Magnuson-Stevens Act.

Background

The Magnuson-Stevens Act requires NMFS and regional fishery management councils to prevent overfishing and achieve, on a continuing basis, the optimum yield from federally managed fish stocks. These mandates are intended to ensure fishery resources are managed for the greatest overall benefit to the nation, particularly with respect to providing food production and recreational opportunities, and protecting marine ecosystems. To further this goal, the Magnuson-Stevens Act requires fishery managers to specify their strategy to rebuild overfished stocks to a sustainable level within a certain time frame, to minimize bycatch and bycatch mortality to the extent practicable, and to establish accountability measures (AMs) for a stock to ensure ACLs are not exceeded.

The intent of the Generic Dealer Amendment is to improve the timeliness and accuracy of dealer reporting, which will help achieve harvest targets. Many commercial fisheries have AMs that implement closures of fisheries when the commercial ACLs are projected to be met. The current reporting frequency reduces the precision of the projections, which may result in estimates of landings significantly less or greater than the ACL. When fisheries are closed well before the ACL is met, optimum yield may not be achieved. In turn, overages have the potential to result in significant disruption in fishing behavior the following fishing year and, reduce revenue and profit for fishermen. Overages also decrease the ability of stocks to rebuild when overfished and may lead to overfishing conditions. The proposed actions, including increasing the frequency of dealer reporting and requiring more dealers to report, are intended to result in better monitoring of the ACLs. Actions Contained in the Generic Dealer Amendment.

The Generic Dealer Amendment would modify the current permitting and reporting requirements for seafood dealers who first receive fish managed by the Councils through eight FMPs. Currently, the following six Federal dealer permits exist for purchasing product in the Southeast Region: Atlantic Dolphin-Wahoo, Gulf Reef Fish, South Atlantic Golden Crab, South Atlantic Rock Shrimp, South Atlantic Snapper Grouper (excluding wreckfish), and South Atlantic Wreckfish. The Generic Dealer Amendment proposes to create a single dealer permit that would be required for the species currently covered by the six dealer permits. In addition, the dealer permit would be required to first receive the following species from federally permitted vessels: Gulf and South Atlantic CMP, Gulf and South Atlantic spiny lobster, and Gulf Red Drum. If the proposed actions are implemented, the universal dealer permit would be required for all species managed by the Councils except for species in the following five FMPs: Coral, Coral Reefs, and Live/Hard Bottom Habitats of the South Atlantic Region; Pelagic Sargassum Habitat of the South Atlantic Region; Coral and Coral Reefs of the Gulf, Shrimp Fishery of the Gulf, and Shrimp Fishery of the South Atlantic Region (excluding rock shrimp).

The Councils exempted penaeid shrimp species from the universal dealer permit because there are no ACLs established for these species. Thus, the current reporting system is adequate for determining catch and effort for these species and the administrative burden of issuing such a large number of shrimp dealer permits would outweigh the benefits from more timely shrimp dealer reports. The Councils did not include corals or pelagic Sargassum because coral harvest is limited to octocoral harvest off Florida and does not require a Federal harvest permit if landed in Florida, and no recorded harvest of pelagic Sargassum from Federal waters occurs.

Currently, federally permitted Gulf reef fish, South Atlantic snapper-grouper, and South Atlantic wreckfish dealers, and dealers with records of king mackerel or Spanish mackerel from the previous year, are required to submit dealer purchase forms every 2 weeks via fax or online through the appropriate state trip ticket reporting system. South Atlantic golden crab, rock shrimp, and Atlantic dolphin-wahoo dealers are required to submit dealer purchase forms on a monthly basis via fax or online through the appropriate state trip ticket reporting system. Reports are currently due 5 days after the end of each reporting period.

If implemented, the Generic Dealer Amendment would require federally permitted dealers to submit forms electronically (via computer or internet) on a weekly basis. Dealer reports for trips landing species between Sunday through Saturday would be required to be submitted by 11:59 p.m., local time, the following Tuesday. In addition, federally permitted dealers would be required to submit records of no purchases electronically (via computer or internet) at the same frequency and via the same process as records for purchases.

Dealer reports would be required to be submitted through the dealer electronic trip ticket reporting system. Electronic reports are currently authorized in each state, except for South Carolina, which currently requires paper reporting. The data elements that would be required through this Generic Dealer Amendment are consistent with the information currently required by the state trip ticket programs.

This amendment would also stipulate that dealers who are delinquent in submitting their reports are not authorized to receive fish from federally-permitted vessels until they have submitted all reports on purchases and no purchases.

This amendment would place new restrictions on certain dealers who currently are not required to have a Federal dealer permit and on certain fishermen who can currently sell to state dealers. Dealers who first receive CMP fish and spiny lobster from federally permitted commercial vessels or charter vessels/headboats, including federally permitted shrimp vessels, would be required to have a Federal dealer permit and would be required to report electronically on a weekly basis. Federally permitted vessels that currently sell CMP fish and spiny lobster to state dealers would be required to sell them to federally permitted dealers.

A proposed rule that would implement the management measures outlined in the Generic Dealer Amendment has been drafted. In accordance with the Magnuson-Stevens Act, NMFS is evaluating the proposed rule to determine whether it is consistent with the FMPs, the Magnuson-Stevens Act, and other applicable laws. If the determination is affirmative, NMFS will publish the proposed rule in the Federal Register for public review and comment.

Consideration of Public Comments

The Councils submitted the Generic Dealer Amendment for Secretarial review, approval, and implementation. NMFS' decision to approve, partially approve, or disapprove the Amendment will be based, in part, on consideration of comments, recommendations, and information received during the comment period on this notice of availability.

Public comments received by 11:59 p.m. eastern time, on February 18, 2014, will be considered by NMFS in its decision to approve, partially approve, or disapprove the Generic Dealer Amendment. All comments received by NMFS on the Generic Dealer Amendment or the proposed rule during their respective comment periods would be addressed in a final rule.

Authority: 16 U.S.C. 1801 et seq.

Dated: December 13, 2013.
Sean Corson,
Acting Deputy Director, Office of Sustainable Fisheries, National Marine Fisheries Service.

[FR Doc. 2013-30134 Filed 12-18-13; 8:45 am]

BILLING CODE 3510-22-P